DEPARTMENT OF ENERGY

Federal Energy Regulatory Commission

[Docket No. ER01-989-002, et al.]

Green Mountain Power Corporation, et al.; Electric Rate and Corporate Filings

July 7, 2004.

The following filings have been made with the Commission. The filings are listed in ascending order within each docket classification.

1. Green Mountain Power Corporation

[Docket No. ER01-989-002]

Take notice that on July 2, 2004, Green Mountain Power Corporation (GMP) tendered for filing an updated triennial market power analysis and modifications to its Wholesale Market-Based Rate Power Sales Tariff (FERC Electric Tariff, Original Volume No. 4) to incorporate Market Behavior Rules adopted by the Commission in Investigation of Terms and Conditions of Public Utility Market-Based Rate Authorizations, 105 FERC ¶ 61,218 (2003). GMP requests an effective date of July 3, 2004.

Comment Date: July 23, 2004.

2. New England Power Pool et al.; ISO New England, Inc.

[Docket No. ER02-2330-029]

Take notice that on July 1, 2004, the New England Power Pool (NEPOOL) Participants Committee and ISO New England Inc. (ISO-NE) filed ISO-NE's Report on Alternatives to Full Nodal Pricing for Load in compliance with the Commission's order issued January 28, 2004, in Docket No. ER02-2330, New England Power Pool et al., 106 FERC ¶ 61,059 (2004).

The NEPOOL Participants Committee states that copies of the filings were sent to the NEPOOL Participants and the New England state governors and regulatory commissions.

Comment Date: July 22, 2004.

3. Devon Power LLC, et al.

[Docket Nos. ER03-563-039; EL04-102-002]

Take notice that on July 2, 2004, ISO New England Inc. (ISO) submitted a compliance filing pursuant to Commission's order issued June 2, 2004, in Docket Nos. ER03-563-030 and EL04-102-000, 107 FERC ¶ 61,240.

ISO states that copies of the filing have been served on all parties to the above-captioned proceeding.

Comment Date: July 23, 2004.

4. New England Power Pool

[Docket No. ER04-984-000]

Take notice that on July 1, 2004, the New England Power Pool (NEPOOL) Participants Committee filed to terminate the membership of Providence Energy Services (Providence) and Gardiner Paperboard (Gardiner) in NEPOOL. The Participants Committee requests a July 1, 2004, effective date for the termination of the membership status of Providence and an August 1, 2004, effective date for the termination of the membership of Gardiner.

The Participants Committee states that copies of these materials were sent to the New England state governors and regulatory commissions and the Participants in NEPOOL.

Comment Date: July 22, 2004.

5. Maine Public Service Company

[Docket No. ER04-894-001]

Take notice that on July 2, 2004, Maine Public Service Company (MPS) submitted an amendment to its May 28, 2004, filing of minor revisions to its open access transmission tariff (OATT). MPS states that this amendment contained certain substitute revised tariff revisions. MPS requests an effective date of June 1, 2004.

MPS states that the copies of this filing were served on the Maine Public Utilities Commission, the Maine Public Advocate, current MPS open access transmission tariff customers, and the official service list compiled by the Secretary in this proceeding.

Comment Date: July 23, 2004.

6. New England Power Pool

[Docket No. ER04-985-000]

Take notice that on July 1, 2004, the New England Power Pool (NEPOOL) Participants Committee filed for acceptance materials to (1) permit NEPOOL to expand its membership to include Aleph One, Inc. (Aleph One) and Seneca Energy II, LLC (Seneca Energy); and (2) to terminate the memberships of Virginia Electric and Power Company (Virginia Power) and Power Development Company, LLC (PDC) in NEPOOL. The Participants Committee requests the following effective dates: June 1, 2004, for the termination of Virginia Power and PDC; and July 1, 2004, for the commencement of participation in NEPOOL by Aleph One and Seneca Energy.

The Participants Committee states that copies of these materials were sent to the New England state governors and regulatory commissions and the Participants in NEPOOL.

Comment Date: July 22, 2004.

7. PJM Interconnection, L.L.C.

[Docket No. ER04-986-000]

Take notice that on July 2, 2004, PJM Interconnection, L.L.C. (PJM), submitted for filing an executed interconnection service agreement between PJM and ConocoPhillips Company. PJM requests an effective date of June 2, 2004.

PJM states that copies of this filing were served upon the parties to the agreement and the state regulatory commissions within the PJM region.

Comment Date: July 23, 2004.

8. PJM Interconnection, L.L.C.

[Docket No. ER04-987-000]

Take notice that on July 2, 2004, PJM Interconnection, L.L.C. (PJM) filed revisions to the PJM Open Access Transmission Tariff (PJM Tariff) and Amended and Restated Operating Agreement of PJM Interconnection, L.L.C. (Operating Agreement) to allocate to loads in each transmission zone the costs of synchronous condensers acting at PJM's direction. PJM requests an effective date of September 1, 2004.

PJM states that copies of the filing were served on all PJM members and the utility regulatory commissions in the PJM region.

Comment Date: July 23, 2004.

9. PJM Interconnection, L.L.C.

[Docket No. ER04-988-000]

Take notice that on July 2, 2004, PJM Interconnection, L.L.C. (PJM), submitted an executed interconnection service agreement and an executed construction service agreement among PJM, PPL Distributed Generation, LLC, and Public Service Electric and Gas Company. PJM requests an effective date of June 4, 2004.

PJM states that copies of this filing were served upon the parties to the agreements and the state regulatory commissions within the PJM region.

Comment Date: July 23, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1523 Filed 7-13-04; 8:45 am]

BILLING CODE 6717-01-P